DEPARTMENT OF AGRICULTURE

Rural Utilities Service

Energy Answers Arecibo Puerto Rico Renewable Energy Project: Notice of Extension of Public Comment Period, Notice of Public Scoping Meeting and Intent to Prepare an Environmental Impact Statement

AGENCY: Rural Utilities Service, USDA.

ACTION: Notice of a 30-day extension to the public comment period, notice of public scoping meeting and intent to prepare an Environmental Impact Statement.

SUMMARY: On November 28, 2014, Rural Utilities Service (RUS) published a Notice of Intent (NOI) announcing its intent to cancel a Supplemental Final Environmental Impact Statement (SFEIS) and prepare a Draft Environmental Impact Statement (DEIS) in association with a financial assistance request for a proposal submitted to the Agency by Energy Answers Arecibo, LLC (Energy Answers). RUS is extending the comment period by an additional 30 days from the date of this notice. RUS intends to conduct public scoping, conduct a public scoping meeting, and prepare an Environmental Impact Statement (EIS) to meet its responsibilities under the National Environmental Policy Act (NEPA), the Council on Environmental Quality's regulations for implementing NEPA (40 CFR parts 1500-1508), and RUS's Environmental and Policies and Procedures (7 CFR part 1794) in connection with potential impacts related to the Energy Answers proposal. The proposal consists of constructing a waste-to-energy generation and resource recovery facility in the Cambalache Ward of Arecibo, Puerto Rico. RUS is providing notice of the intention to conduct public scoping and prepare an EIS related to the proposal submitted by Energy Answers.

RUS is considering funding this application, thereby making the proposal an undertaking subject to review under Section 106 of the National Historic Preservation Act (NHPA), 16 U.S.C. 470(f), and its implementing regulation, “Protection of Historic Properties” (36 CFR part 800). Any party wishing to participate directly with RUS as a “consulting party” in Section 106 review may submit a written request to the RUS contact provided below. Pursuant to 36 CFR 800.3(f)(3), RUS will consider, and provide a timely response to, any and all requests for consulting party status.

DATES: Written requests to participate as a “consulting party” and/or comments concerning the public scoping or about this Notice of Intent must be received on or before February 13, 2015. A notice of availability of a Draft EIS will be published in the Federal Register and local newspapers announcing its review period. A public scoping meeting will be held on January 28, 2015 from 3:00-7:00 p.m. at the Colegio de Ingenieros y Agrimensores de Puerto Rico, Capítulo de Arecibo, Ave. Manuel T. Guillán 1, Arecibo. The public scoping meeting will be conducted in an open house format with a court reporter available for transcription of verbal comments.

ADDRESSES: Project-related information will be available at RUS's Web site located at: http://www.rurdev.usda.gov/UWP-AreciboPuertoRico.html and at the Tribunal General de Justicia, Centro Judicial de Arecibo and at the Casa Alcaldía del Municipio de Arecibo.

To request “consulting party” status, submit comments or for further information, please contact: Ms. Stephanie Strength, Environmental Protection Specialist, USDA/RUS, 1400 Independence Ave. SW., Room 2244-S, Stop 1571, Washington, DC 20250-1571, Telephone: (970) 403-3559, fax: (202) 690-0649, or email: stephanie.strength@wdc.usda.gov.

SUPPLEMENTARY INFORMATION: On November 28, 2014, Rural Utilities Service (RUS) published a Notice of Intent (NOI) announcing its intent to cancel a Supplemental Final Environmental Impact Statement (SFEIS) and prepare a Draft Environmental Impact Statement (DEIS) in association with a financial assistance request for a proposal submitted to the Agency by Energy Answers Arecibo, LLC (Energy Answers). RUS is extending the comment period by an additional 30 days from the date of this notice. RUS intends to conduct public scoping, conduct a public scoping meeting, and prepare an Environmental Impact Statement (EIS) and is soliciting public comments on the scope of an EIS that it intends to prepare for Energy Answers' proposal. In accordance with 7 CFR 1794.74 and 40 CFR 1502.21, RUS intends to incorporate by reference the environmental impact analyses and documentation prepared by the Puerto Rico Industrial Development Company (PRIDCO). PRIDCO served as a lead agency in preparation of an EIS prepared under the Puerto Rico Environmental Public Policy Act, Article 4(B)(3), (Law No. 416, September 22, 2004). RUS has copies of this EIS and all associated appendices posted on this Web site: http://www.rurdev.usda.gov/UWP-AreciboPuertoRico.html. RUS also intends to incorporate by reference all of the environmental impact and air quality analyses and responses to public comments prepared by the U.S. Environmental Protection Agency (USEPA) as part of its Clean Air Act, Prevention of Significant Deterioration (PSD) permit. USEPA issued a final effective PSD permit on April 10, 2014, and information related to the PSD permit can be found on USEPA's Web site—see: http://www.epa.gov/region02/air/permit/energyanswers/.

RUS is in receipt of all past public involvement activities, public comments, and responses to public comments from both PRIDCO and USEPA actions. While RUS understands the concerns expressed in the past by the public, the Agency strongly encourages all interested parties to submit scoping comments to the RUS contact listed in the ADDRESSES section of this Notice.

Energy Answers proposes to construct a waste-to-energy generation and resource recovery facility in the Cambalache Ward of Arecibo, Puerto Rico. The proposed facility would process approximately 2,100 tons of municipal waste per day and generate a gross capacity of approximately 77 megawatts (MW). The Puerto Rico Electric Power Authority will purchase the power generated from the facility. The preferred location of the facility is the former site of the Global Fibers Paper Mill and would encompass approximately 79.6 acres of the 90-acre parcel. The proposal would include the following facility components: A municipal solid waste receiving and processing building; processed refuse fuel storage building; boiler and steam turbine; emission control system; ash processing and storage building; and other associated infrastructure and buildings. Two other connected actions include installation of an approximately 2.0-mile raw water line and construction of a 115 kilovolt (kV) transmission line approximately 0.8 miles in length. The connected actions will be addressed in the EIS.

Among the alternatives that RUS will address in the EIS is the No Action alternative, under which the proposal would not be undertaken. In the EIS, the effects of the proposal will be compared to the existing conditions in the proposal area. Public health and safety, environmental impacts, and engineering aspects of the proposal will be considered in the EIS.

RUS is the lead Federal agency, as defined at 40 CFR 1501.5, for preparation of the EIS. With this Notice, Federal and State agencies and federally recognized Native American Tribes with jurisdiction or special expertise are invited to be cooperating agencies. Such agencies or tribes may make a request to RUS to be a cooperating agency by contacting the RUS contact provided in this Notice. Designated cooperating agencies have certain responsibilities to support the NEPA and scoping process, as specified at 40 CFR 1501.6(b).

As part of its broad environmental review process, RUS must take into account the effect of the proposal on historic properties in accordance with Section 106 of the National Historic Preservation Act (Section 106) and its implementing regulation, “Protection of Historic Properties” (36 CFR part 800). Pursuant to 36 CFR 800.2(d)(3), RUS is using its procedures for public involvement under NEPA to meet its responsibilities to solicit and consider the views of the public during Section 106 review. Accordingly, comments submitted in response to this Notice will inform RUS decision-making during Section 106 review.

As applicable, the EIS will document changes in the affected environment and environmental consequences that may have occurred since the PRIDCO-prepared Final EIS was published in 2010 and USEPA's PSD permit action. The PRIDCO-prepared Final EIS is available in both Spanish and English for review at the addresses provided in this Notice. USEPA PSD permit actions are available for review at the address provided in this notice. RUS's EIS will incorporate this documentation by reference and focus on those topics that have changed since PRIDCO's Final EIS was published. RUS's Draft EIS will be available for review and comment for 45 days. Following the 45-day review period, RUS will prepare a Final EIS. After a 30-day review period, RUS will publish a Record of Decision (ROD). Notices announcing the availability of the Draft EIS, Final EIS and the ROD will be published in the Federal Register and in local newspapers.

Any final action by RUS related to the proposal will be subject to, and contingent upon, compliance with all relevant executive orders and federal, state, and local environmental laws and regulations in addition to the completion of the environmental review requirements as prescribed in RUS's Environmental Policies and Procedures, 7 CFR part 1794, as amended.

Dated: January 7, 2015.
Richard Fristik,
Acting Director, Engineering and Environmental Staff, USDA, Rural Utilities Service.

[FR Doc. 2015-00409 Filed 1-13-15; 8:45 am]

BILLING CODE 3410-15-P